DEPARTMENT OF JUSTICE

Antitrust Division

Notice Pursuant to the National Cooperative Research And Production Act of 1993—Joint Venture Under ATP Award No. 70NANB4H3027

Notice is hereby given that, on July 19, 2004, pursuant to Section 6(a) of the National Cooperative Research and Production Act of 1993, 15 U.S.C. 4301 et seq. (“the Act”), the Joint Venture Under ATP Award No. 70NANB4H3027 has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are The POM Group, Inc., Auburn Hills, MI; Nuvonyx Inc., Bridgeton, MO; and Stellite Coatings, Goshen, IN. The nature and objectives of the venture are to develop and demonstrate high speed, ultra-precision Direct Metal Deposition (DMD) technology for tool and die manufacturing, which creates metal alloys with unique and controlled mechanical properties. This technology will be incorporated with a high power fiber-coupled diode laser power source and a Dry EDM final finishing process. The activities of this Joint Venture project will be partially funded by an award from the Advanced Technology Program, National Institute of Standards and Technology, U.S. Department of Commerce.

Dorothy B. Fountain,
Deputy Director of Operations, Antitrust Division.

[FR Doc. 04-18858 Filed 8-17-04; 8:45 am]

BILLING CODE 4410-11-M